DEPARTMENT OF THE INTERIOR

Fish and Wildlife Service

Availability of Draft Environmental Assessment of Take of Nestling American Peregrine Falcons for Falconry

AGENCY: Fish and Wildlife Service, Interior.

ACTION: Notice of availability.

SUMMARY: This notice is to announce the availability of a Draft Environmental Assessment of falconry take of nestling American peregrine falcons in the contiguous United States and Alaska. In it, we seek to provide protection for the nationwide population of American peregrine falcons while allowing a limited take of nestlings for falconry. We do so by evaluating the effects of take of nestlings on American peregrine population growth in the United States. We seek public comment on the draft assessment.

DATES: Comments on the Draft Environmental Assessment are due by September 25, 2000.

ADDRESSES: The Draft Environmental Assessment is available from, and written comments about it should be submitted to, Chief, Office of Migratory Bird Management, U.S. Fish and Wildlife Service, 4401 North Fairfax Drive, Room 634, Arlington, Virginia 22203-1610. You can request a copy of the Environmental Assessment by calling 703-358-1714. The fax number for a request or for comments is 703-358-2272. The Assessment also is available on the Office of Migratory Bird Management web pages at http://migratorybirds.fws.gov.

FOR FURTHER INFORMATION CONTACT: Dr. George T. Allen, Office of Migratory Bird Management, U.S. Fish and Wildlife Service, at 703-358-1714 or the address above.

SUPPLEMENTARY INFORMATION: The American peregrine falcon (Falco peregrinus anatum) occurs throughout much of North America from the subarctic boreal forests of Alaska and Canada south to Mexico. The American peregrine falcon declined precipitously in North America following World War II, a decline attributed largely to organochlorine pesticides applied in the United States and Canada. Because of the decline, the American peregrine was listed as endangered in 1970 (35 FR 16047).

Recovery goals for American peregrine falcons in the United States were substantially exceeded in some areas, and on August 25, 1999, we removed the American peregrine falcon from the List of Endangered and Threatened Wildlife and Plants (64 FR 46542). However, monitoring of the status of the species is required, and it is still protected under the Migratory Bird Treaty Act.

Anticipating delisting, in June 1999 a number of state fish and wildlife agencies, through the International Association of Fish and Wildlife Agencies, proposed allowing take of nestling American peregrines for falconry. In response, in an October 4, 1999, Federal Register notice (64 FR 53686), we stated that we would prepare two management plans and associated environmental assessments for take of wild peregrine falcons. We further stated that we would consider a conservative take of nestling peregrines from healthy populations of American peregrine falcons in the western United States and Alaska, where recovery was most marked and where approximately 82% of the nesting pairs in the United States were found in 1998.

The States proposed allowing take of 5% of the annual production of nestlings in States west of 100° (Alaska, Arizona, California, Colorado, Idaho, Montana, Nevada, New Mexico, Oregon, Utah, Washington, and Wyoming). In preparing the Draft Environmental Assessment, we considered the request from the States, as well as the effects of allowing no take, and take of 10%, 15%, and 20% of annual production in those States. A sixth alternative we evaluated was lifting the current restriction on take by falconry permittees. This option would make no distinctions regarding where nestling peregrines could be taken.

Because population changes also are greatly influenced by survival of adults, we also assessed the effects of different take levels with different values for adult mortality. We concluded that 20% post-first-year mortality is a conservative and reasonable value to use. However, we also modeled population growth using 10%, 15%, and 25% annual mortality of adults.

The proposed action in the Draft Environmental Assessment is to allow take of up to 5% of the nestlings produced in western States; take of any lesser amount could be allowed by a State. The 5% level of take should still allow population growth of 3% per year if post-first-year mortality is 20% and population density does not affect reproduction or survival.

Dated: July 18, 2000.
Jamie Rappaport Clark,
Director, U.S. Fish and Wildlife Service.

[FR Doc. 00-18693 Filed 7-24-00; 8:45 am]

BILLING CODE 4310-55-P